DEPARTMENT OF HOMELAND SECURITY

[Docket No. DHS-2012-0072]

President's National Security Telecommunications Advisory Committee

AGENCY: National Protection and Programs Directorate, DHS.

ACTION: Committee Management; Notice of an Open Federal Advisory Committee Teleconference.

SUMMARY: The President's National Security Telecommunications Advisory Committee (NSTAC) will meet on Friday, January 11, 2013, via conference call. The meeting will be open to the public.

DATES: The NSTAC will meet on Friday, January 11, 2013, from 2:00 p.m. to 2:40 p.m. Please note that the meeting may close early if the committee has completed its business.

ADDRESSES: The meeting will be held via conference call. For access to the conference bridge, contact Ms. Sue Daage by email at sue.daage@hq.dhs.gov by 5:00 p.m. on Friday, January 4, 2013.

To facilitate public participation, we are inviting public comment on the issue to be considered by the committee as listed in the SUPPLEMENTARY INFORMATION section below. The document associated with the topic to be discussed during the conference will be available at www.ncs.gov/nstac for review by Monday, January 7, 2013. Written comments must be received by the NSTAC Alternate Designated Federal Officer no later than Friday, January 25, 2013, and may be submitted by any one of the following methods:

• Federal eRulemaking Portal: http://www.regulations.gov. Follow the instructions for submitting written comments.

• Email: NSTAC@hq.dhs.gov. Include the docket number in the subject line of the email message.

• Fax: (703) 235-4981.

• Mail: Alternate Designated Federal Officer, Stakeholder Engagement and Critical Infrastructure Resilience Division, National Protection and Programs Directorate, Department of Homeland Security, 245 Murray Lane, Mail Stop 3016B, Arlington, VA 20598-0615.

Instructions: All submissions received must include the words “Department of Homeland Security” and the docket number for this action. Comments received will be posted without alteration at www.regulations.gov, including any personal information provided.

Docket: For access to the docket, including all documents and comments received by the NSTAC, go to www.regulations.gov.

A public comment period will be held during the meeting on Friday, January 11, 2013, from 2:05 p.m. to 2:25 p.m. Speakers who wish to participate in the public comment period must register in advance no later than Friday, January 4, 2013, at 5:00 p.m. by emailing Sue Daage at sue.daage@hq.dhs.gov. Speakers are requested to limit their comments to three minutes and will speak in order of registration as time permits. Please note that the public comment period may end before the time indicated, following the last call for comments.

FOR FURTHER INFORMATION CONTACT: Michael A. Echols, NSTAC Alternate Designated Federal Officer, Department of Homeland Security, telephone (703) 235-4218.

SUPPLEMENTARY INFORMATION: Notice of this meeting is given under the Federal Advisory Committee Act (FACA), 5 U.S.C. App. (Pub. L. 92-463). The NSTAC advises the President on matters related to national security and emergency preparedness telecommunications policy.

Agenda: The NSTAC members will receive an update on progress made to date by the Secure Government Communications Scoping Subcommittee and will vote on the final scoping report. The Secure Government Communications Scoping Subcommittee is charged with examining how commercial-off-the-shelf technologies and private sector best practices can be used to secure unclassified communications between and among Federal civilian departments and agencies.

Dated: December 12, 2012.
Allen F. Woodhouse,
Alternate Designated Federal Officer for the NSTAC.

[FR Doc. 2012-30558 Filed 12-18-12; 8:45 am]

BILLING CODE P